DEPARTMENT OF COMMERCE

Foreign-Trade Zones Board

[B-71-2015]

Authorization of Production Activity, Foreign-Trade Subzone 125D, ASA Electronics, LLC, (Motor Vehicle Audio-Visual Products), Elkhart, Indiana

On October 21, 2015, the St. Joseph County Airport Authority, grantee of FTZ 125, submitted a notification of proposed production activity to the Foreign-Trade Zones (FTZ) Board on behalf of ASA Electronics, LLC, operator of Subzone 125D, in Elkhart, Indiana.

The notification was processed in accordance with the regulations of the FTZ Board (15 CFR part 400), including notice in the Federal Register inviting public comment (80 FR 69636, 11-10-2015). The FTZ Board has determined that no further review of the activity is warranted at this time. The production activity described in the notification is authorized, subject to the FTZ Act and the FTZ Board's regulations, including Section 400.14.

Dated: February 25, 2016.
Andrew McGilvray,
Executive Secretary.

[FR Doc. 2016-04602 Filed 3-1-16; 8:45 am]

BILLING CODE 3510-DS-P